DEPARTMENT OF THE INTERIOR

Fish and Wildlife Service

Endangered and Threatened Wildlife and Plants; Initiation of 5-Year Reviews of Three Wildlife Species and Two Plant Species in the Midwest Region

AGENCY: Fish and Wildlife Service, Interior.

ACTION: Notice of review; request for information.

SUMMARY: We, the U.S. Fish and Wildlife Service (Service), initiate 5-year reviews of eastern prairie fringed orchid (Platanthera leucophaea), Hine's emerald dragonfly (Somatochlora hineana), Fassett's locoweed (Oxytropis campestris var. chartacea), Kirtland's warbler (Dendroica kirtlandii), and white cat's paw pearly mussel (Epioblasma obliquata perobliqua) under the Endangered Species Act of 1973, as amended (Act). We request any new information on these species that may have a bearing on their classification as endangered or threatened. Based on the results of this review, we will make a finding on whether these species are properly classified under the Act.

DATES: To allow us adequate time to conduct these reviews, we must receive your information no later than October 25, 2007. However, we will continue to accept new information about any listed species at any time.

ADDRESSES: Submit information to the appropriate U.S. Fish and Wildlife Service Ecological Services Field Supervisor below:

1. Eastern prairie fringed orchid and Hine's emerald dragonfly: mail or hand-deliver to 1250 South Grove Avenue, Suite 103, Barrington, IL 60010, or e-mail to fw3easternprairiefringedorchid5year@fws.gov or fw3hinesemeralddragonfly5year@fws.gov.

2. Fassett's locoweed: mail or hand-deliver to 2661 Scott Tower Drive, New Franken, WI 54229, or e-mail to fw3fassettslocoweed5year@fws.gov.

3. Kirtland's warbler: mail or hand-deliver to 2651 Coolidge Road, Suite 101, East Lansing, MI 48823-6316, or e-mail to fw3kirtlandswarbler5year@fws.gov.

4. White cat's paw pearly mussel: mail or hand-deliver to 6950 Americana Parkway, Suite H, Reynoldsburg, OH 43068-4127, or e-mail to fw3whitecatspaw5year@fws.gov.

See SUPPLEMENTARY INFORMATION for additional information.

FOR FURTHER INFORMATION CONTACT: 1. Eastern prairie fringed orchid and Hine's emerald dragonfly: Mr. Kris Lah, Chicago Ecological Services Field Office (see ADDRESSES); telephone (847) 381-2253; facsimile (847) 381-2285.

2. Fassett's locoweed: Ms. Leakhena Au, Green Bay Ecological Services Field Office (see ADDRESSES); telephone (920) 866-3650; facsimile (920) 866-1710.

3. Kirtland's warbler: Mr. Chris Mensing, East Lansing Ecological Services Field Office (see ADDRESSES); telephone (517) 351-8316; facsimile (517) 351-1443.

4. White cat's paw pearly mussel: Ms. Angela Zimmerman; Reynoldsburg Ecological Services Field Office (see ADDRESSES); telephone (614) 469-6923, extension 22; facsimile (614) 469-6919.

Individuals who are hearing impaired or speech impaired may call the Federal Relay Service at (800) 877-8337 for TTY assistance.

SUPPLEMENTARY INFORMATION: We initiate a 5-year reviews of eastern prairie fringed orchid, Hine's emerald dragonfly, Fassett's locoweed, Kirtland's warbler, and white cat's paw pearly mussel under section 4(c)(2)(A) of the Act (16 U.S.C. 1531 et seq.). We request any new information and appropriate data since their original listing or most recent status review that document the need to delist or reclassify these species.

A 5-year review is a periodic process conducted to ensure that the classification of a listed species is appropriate. It is based on the best scientific and commercial data available at the time of the review. Based on the results of these 5-year reviews, we will make a finding of whether these species are properly classified under section 4(c)(2)(B) of the Act.

Under the Act, we maintain the List of Endangered and Threatened Wildlife and Plant Species (List) at 50 CFR 17.11 and 17.12. We amend the List by publishing final rules in the Federal Register. The List is available on our Internet site at http://www.fws.gov/endangered/wildlife.html#species. Section 4(c)(2)(A) of the Act requires that we conduct a review of listed species at least once every 5 years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process.

Definitions

To help you submit information about the species we are reviewing, we provide the following definitions:

Species includes any species or subspecies of fish or wildlife or plant, and any distinct population segment of any species of vertebrate which interbreeds when mature.

Endangered species means any species that is in danger of extinction throughout all or a significant portion of its range.

Threatened species means any species that is likely to become an endangered species within the foreseeable future throughout all or a significant portion of its range.

The regulations in 50 CFR 424.21 require that we publish a notice in the Federal Register announcing those species currently under active review. This announces our active review of eastern prairie fringed orchid, Hine's emerald dragonfly, Fassett's locoweed, Kirtland's warbler, and white cat's paw pearly mussel.

Species Summary
Common name | Scientific name | Status | Listed entity | When listed
Kirtland's (wood) warbler | Dendroica kirtlandii | Endangered | U.S.A. (principally MI), Canada, West Indies-Bahama Islands | Mar 11, 1967 (32 FR 4001).
White cat's paw pearly mussel | Epioblasma obliquata perobliqua | Endangered | U.S.A. (IN, MI, OH) | June 14, 1976 (41 FR 24064).
Hine's emerald dragonfly | Somatochlora hineana | Endangered | U.S.A. (IL, IN, OH, WI) | Jan 26, 1995 (60 FR 5273).
Eastern prairie fringed orchid | Platanthera leucophaea | Threatened | U.S.A. (AR, IA, IL, IN, ME, MI, MO, NE, NJ, NY, OH, OK, PA, VA, WI), Canada (Ont., N.B.). | Sept 28, 1989 (54 FR 39863).
Fassett's locoweed | Oxytropis campestris var. chartacea | Threatened | U.S.A. (WI) | Sept 28, 1988 (53 FR 37972).

Public Solicitation of New Information

To ensure that the 5-year reviews are complete and based on the best scientific and commercial data available, we are soliciting new information from the public, concerned governmental agencies, tribes, the scientific community, industry, environmental entities, and any other interested parties concerning the status of eastern prairie fringed orchid, Hine's emerald dragonfly, Fassett's locoweed, Kirtland's warbler, and white cat's paw pearly mussel. A 5-year review considers the best scientific and commercial data and all new information that has become available since the listing determination or most recent status review. Categories of requested information include (A) Species biology, including but not limited to population trends, distribution, abundance, demographics, and genetics; (B) habitat conditions, including but not limited to amount, distribution, and suitability; (C) conservation measures that have been implemented that benefit the species; (D) threat status and trends; and (E) other new information, data, or corrections, including but not limited to taxonomic or nomenclature changes, identification of erroneous information contained in the List, and improved analytical methods.

Electronic Access and Filing

You must submit electronic information (see ADDRESSES) in MS Word, Rich Text format, or Plain Text format, and include the species common name in the title line (for example, “Fassett's Locoweed 5-Year Review Comments”).

Information submitted to the U.S. Fish and Wildlife Service Ecological Services Field Supervisor (see ADDRESSES) must be received within sufficient time to allow adequate time to conduct these 5-year reviews (see DATES). If you do not respond to this request for information but subsequently possess information on the status of these species, we will accept new information regarding any federally listed species at any time.

Our practice is to make information, including names and home addresses of respondents, available for public review during regular business hours. Before including your address, telephone number, e-mail address, or other personal identifying information with your response, you should be aware that your entire submission—including your personal information—may be made publicly available at any time. While you can ask us in your response to withhold your personal identifying information from public review, we cannot guarantee that we will able to do so. We will not, however, consider information submitted anonymously. To the extent consistent with applicable law, we will make all submissions from organizations or businesses, and from individuals identifying themselves as representatives or officials of organizations or businesses, available for public inspection in their entirety. Information received in response to this notice will be available for public inspection, by appointment, during normal business hours (see ADDRESSES).

Authority: This document is published under the authority of the Endangered Species Act of 1973, as amended (16 U.S.C. 1531 et seq.).

Dated: June 29, 2007.
Wendi Weber,
Assistant Regional Director, Ecological Services, Region 3.

[FR Doc. E7-14535 Filed 7-26-07; 8:45 am]

BILLING CODE 4310-55-P